DEPARTMENT OF COMMERCE

National Oceanic and Atmospheric Administration

Agency Information Collection Activities; Submission to the Office of Management and Budget (OMB) for Review and Approval; Comment Request; Western and Central Pacific Fisheries Convention Vessel Information Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 21, 2021, during a 60-day comment period. This notice allows for an additional 30 days for public comments.

Agency: National Oceanic & Atmospheric Administration (NOAA), Commerce.

Title: Western and Central Pacific Fisheries Convention Vessel Information Family of Forms.

OMB Control Number: 0648-0595.

Form Number(s): None.

Type of Request: Regular (extension of a currently approved collection).

Number of Respondents: 225.

Average Hours per Response: Western and Central Pacific Fisheries Commission Area Endorsement Application: 60 minutes; Foreign Exclusive Economic Zone (EEZ) Form: 90 minutes; International Maritime Organization (IMO) number application: 30 minutes.

Total Annual Burden Hours: 43.

Needs and Uses: The Western and Central Pacific Fisheries Convention Implementation Act (WCPFCIA; 16 U.S.C. 6901 et seq.) and U.S. implementing regulations (50 CFR 300 Subpart O) authorize that all member States maintain and provide to the Commission on the Conservation and Management of Highly Migratory Fish Stocks in the Western and Central Pacific Ocean (Commission or WCPFC) a list of vessels flagged by the member State and (1) authorized by the member State to be used for fishing for highly migratory fish stocks (HMS) on the high seas in the WCPFC Area, or (2) authorized by other States to be used for fishing for HMS in their areas of jurisdiction in the WCPFC Area, and to maintain and provide for each vessel on that list certain information on its characteristics and its owner and operator.

Vessels in the first category already provide most of the required information under existing laws and regulations. All such vessels must be documented by the United States Coast Guard (USCG) or be state-registered and must hold a valid High Seas Fishing Permit (issued under the authority of the High Seas Fishing Compliance Act (HSFCA). Under these existing documentation/registration and permitting requirements, the vessel owner or operator must comply with information collection requirements that fulfill most of the needs under the WCPFCIA. This information collection requirement serves to collect the few pieces of information required under the WCPFCIA that are not already collected via existing mechanisms, and a form customized for this category of vessels is used.

Vessels in the second category already provide information as part of the USCG documentation or State registration processes, but such vessels do not need to hold High Seas Fishing Permits (unless they also fish on the high seas), so they will not necessarily be submitting the information collected via that permitting process. This information collection requirement serves to collect the pieces of information required under the WCPFCIA that are not already collected via existing mechanisms, and a form customized for this category of vessels is used.

Under a 2013 Commission decision, an additional piece of information that the United States must provide to the Commission for both categories of vessels (but only for those whose tonnage is at least 100 gross register tons (GRT) or 100 gross tons (GT)) is the vessel's IMO number. An IMO number, also known as an IMO ship identification number, is a unique number issued for a ship or vessel under the ship identification number scheme established by the International Maritime Organization. Once issued, an IMO number will remain with the vessel for its life, regardless of changes to the vessel's name, flag, ownership, or other attributes. This information collection requirement serves to collect information based on a decision of the Commission made under Conservation and Management Measure (CMM) 2013-10, which requires each member of the Commission to ensure that IMO numbers are issued for the two above listed categories of vessels. To satisfy this WCPFC requirement, NMFS requires that the owner of each subject vessel request and obtain an IMO number, which they can do by submitting certain information about the vessel and its ownership and management to the administrator of the IMO ship identification number scheme, which is a private third party not associated with the United States government or any other government. Although NMFS does not collect this information directly, the requirement to submit the information to the third party is covered by this information collection.

Affected Public: Business or other for-profit organizations; individuals or households.

Frequency: The information included in both the WCPFC Area Endorsement application and Foreign EEZ form is collected once every five years. The information collected to obtain an IMO number is a one-time collection.

Respondent's Obligation: Mandatory.

Legal Authority: WCPFCIA; 16 U.S.C. 6901 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0595.

Sheleen Dumas,
Department PRA Clearance Officer, Office of the Chief Information Officer, Commerce Department.

[FR Doc. 2021-22096 Filed 10-8-21; 8:45 am]

BILLING CODE 3510-22-P